DEPARTMENT OF ENERGY

Federal Energy Regulatory Commission

Combined Notice of Filings #1 Take notice that the Commission received the following electric rate filings:

Docket Numbers: ER21-1215-003.

Applicants: Assembly Solar I, LLC.

Description: Compliance filing: Compliance Filing Under Docket ER21-1215 to be effective 5/1/2021.

Filed Date: 2/7/22.

Accession Number: 20220207-5067.

Comment Date: 5 p.m. ET 2/28/22.

Docket Numbers: ER21-1794-002.

Applicants: White Oak Energy LLC.

Description: Compliance filing: Compliance Filing Under Docket ER21-1794 to be effective 7/1/2021.

Filed Date: 2/7/22.

Accession Number: 20220207-5069.

Comment Date: 5 p.m. ET 2/28/22.

Docket Numbers: ER22-998-000.

Applicants: New York State Electric & Gas Corporation, New York Independent System Operator, Inc.

Description: § 205(d) Rate Filing: New York State Electric & Gas Corporation submits tariff filing per 35.13(a)(2)(iii: 205: E&P Agreement between NYSEG and Watkins Glen Solar (SA 2685) to be effective 1/10/2022.

Filed Date: 2/7/22.

Accession Number: 20220207-5068.

Comment Date: 5 p.m. ET 2/28/22.

Docket Numbers: ER22-999-000.

Applicants: Midcontinent Independent System Operator, Inc.

Description: § 205(d) Rate Filing: 2022-02-07_SA 2332 Termination of MidAmerican-Cornbelt-Hudson WDS to be effective 1/21/2022.

Filed Date: 2/7/22.

Accession Number: 20220207-5114.

Comment Date: 5 p.m. ET 2/28/22.

Docket Numbers: ER22-1000-000.

Applicants: Midcontinent Independent System Operator, Inc., Union Electric Company.

Description: § 205(d) Rate Filing: Midcontinent Independent System Operator, Inc. submits tariff filing per 35.13(a)(2)(iii: 2022-02-07_SA 2022 Ameren-Kirkwood 2nd Rev WDS to be effective 4/1/2022.

Filed Date: 2/7/22.

Accession Number: 20220207-5131.

Comment Date: 5 p.m. ET 2/28/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2022.
Debbie-Anne A. Reese,
Deputy Secretary.

[FR Doc. 2022-02962 Filed 2-10-22; 8:45 am]

BILLING CODE 6717-01-P